DEPARTMENT OF ENERGY

Federal Energy Regulatory Commission

[Docket No. RD25-5-000]

Commission Information Collection Activities (FERC-725R And FERC-725A). Comment Request; Revision

AGENCY: Federal Energy Regulatory Commission.

ACTION: Notice of information collection and request for comments.

SUMMARY: In compliance with the requirements of the Paperwork Reduction Act of 1995, the Federal Energy Regulatory Commission (Commission or FERC) is soliciting public comment on proposed revisions of the currently approved information collection, FERC-725R, (Mandatory Reliability Standards: BAL Reliability Standards) and FERC-725A, Mandatory Reliability Standards for the Bulk-Power System: TOP and INT Standards. The 60-day notice published on April 11, 2025, the comment period ended on June 10, 2025, no comments were received.

DATES: Comments on the collection of information are due August 22, 2025.

ADDRESSES: Send written comments on FERC-725R to OMB through https://www.reginfo.gov/public/do/PRA/icrPublicCommentRequest?ref_nbr=202507-1902-003, FERC-725A to OMB through https://www.reginfo.gov/public/do/PRA/icrPublicCommentRequest?ref_nbr=202507-1902-004. You can also visit https://www.reginfo.gov/public/do/PRAMain and use the drop-down under “Currently under Review” to select the “Federal Energy Regulatory Commission” where you can see the open opportunities to provide comments. Comments should be sent within 30 days of publication of this notice.

Please submit a copy of your comments to the Commission via email to DataClearance@FERC.gov. You must specify the Docket No. (RD25-5-000) and the FERC Information Collection number (FERC-725R and 725A) in your email. If you are unable to file electronically, comments may be filed by USPS mail or by hand (including courier) delivery:

• Mail via U.S. Postal Service Only: Federal Energy Regulatory Commission, Secretary of the Commission, 888 First Street NE, Washington, DC 20426.

• All other delivery methods: Federal Energy Regulatory Commission, Secretary of the Commission, 12225 Wilkins Avenue, Rockville, MD 20852.

Docket: To view comments and issuances in this docket, please visit https://elibrary.ferc.gov/eLibrary/search. Once there, you can also sign-up for automatic notification of activity in this docket.

FOR FURTHER INFORMATION CONTACT: Kayla Williams, (202) 502-6468. DataClearance@FERC.gov

SUPPLEMENTARY INFORMATION:

Title: FERC-725R, (Mandatory Reliability Standards: BAL Reliability Standards) and FERC-725A, Mandatory Reliability Standards for the Bulk-Power System: TOP and INT Standards.

OMB Control No.: FERC-725R (1902-0268) and FERC-725A (1902-0244).

Type of Request: Revision of FERC-725R—Mandatory Reliability Standards, proposed Reliability Standard BAL-007-1 (Near-term Energy Reliability Assessments) and FERC-725A—proposed Reliability Standard TOP-003-7 (Transmission Operator and Balancing Authority Data and Information Specification and Collection).

Abstract: The FERC-725R and FERC-725A information collection requirements are subject to review by the Office of Management and Budget (OMB) under section 3507(d) of the Paperwork Reduction Act of 1995. OMB's regulations require approval of certain information collection requirements imposed by agency rules. Upon approval of a collection of information, OMB will assign an OMB control number and expiration date. Respondents subject to the filing requirements will not be penalized for failing to respond to these collections of information unless the collections of information display a valid OMB control number. The Commission solicits comments on the need for this information, whether the information will have practical utility, the accuracy of the burden estimates, ways to enhance the quality, utility, and clarity of the information to be collected or retained, and any suggested methods for minimizing respondents' burden, including the use of automated information techniques.

The Commission bases its paperwork burden estimates on the additional paperwork burden presented by the proposed the Commission's regulations,¹ proposing the approval of proposed Reliability Standard BAL-007-1 (Near-term Energy Reliability Assessments), the approval of proposed Reliability Standard TOP-003-7 (Transmission Operator and Balancing Authority Data and Information Specification and Collection), and the approval of the proposed definitions of the terms Energy Reliability Assessment (ERA) and Near-Term Energy Reliability Assessment (Near-Term ERA) for inclusion in the Glossary of Terms Used in NERC Reliability Standards.

¹ 18 CFR 39.5.

NERC explains “the purpose of proposed Reliability Standard BAL-007-1 is to identify and minimize the risks of forecasted Energy Emergencies in the operations planning time horizon by analyzing the expected resource mix availability.” ² NERC states that proposed Reliability Standard BAL-007-1 requires balancing authorities “to perform a Near-Term ERAs and have Operating Plans in place to identify and minimize the risks of forecasted Energy Emergencies.” ³ Furthermore, NERC states that “proposed Reliability Standard TOP-003-7 would provide the Balancing Authority with specific authority to collect the data necessary to perform the Near-Term ERAs.” ⁴ Based on the NERC Compliance Registry, as of November 20, 2024, we estimate that 97 balancing authorities (BAs) would be subject to mandatory compliance with proposed Reliability Standard BAL-007-1. For proposed Reliability Standard TOP-003-7, only the 97 balancing authorities will have a change in burden.

² NERC Petition at 3.

³ Id.

⁴ Id. at 4.

⁵ Number of entity data taken from the NERC compliance registry, dated November 20, 2024.

⁶ The estimated hourly cost (salary plus benefits) is a combination based on the Bureau of Labor Statistics (BLS), as of 2024, for 75% of the average of an Electrical Engineer (17-2071) $79.31/hr., 79.31 × .75 = 59.4825 ($59.48-rounded) ($59.48/hour) and 25% of an Information and Record Clerk (43-4199) $44.74/hr., $44.74 × .25% = 11.185 ($11.19 rounded) ($11.19/hour), for a total ($59.48 + $11.19 = $70.67/hour).

⁷ Number of entity data taken from the NERC compliance registry, dated November 20, 2024.

⁸ The estimated hourly cost (salary plus benefits) is a combination based on the Bureau of Labor Statistics (BLS), as of 2024, for 75% of the average of an Electrical Engineer (17-2071) $79.31/hr., 79.31 × .75 = 59.4825 ($59.48-rounded) ($59.48/hour) and 25% of an Information and Record Clerk (43-4199) $44.74/hr., $44.74 × .25% = 11.185 ($11.19 rounded) ($11.19/hour), for a total ($59.48 + $11.19 = $70.67/hour).

Proposed Burden BAL-007-1 Docket No. RD25-5
Reliability standard | Type and number of entity ⁵ | Number of annual responses per entity | Total number of responses | Average number of burden hours per response ⁶ | Total burden hours
| (1) | (2) | (1) * (2) = (3) | (4) | (3) * (4) = (5)
Annual Collection BAL-007-1 FERC-725R
Annual review and record retention | 97 (BA) | 1 | 97 | 24 hrs.; $70.67/hr. | 2,328 hrs.; $164,519.76.
Total for BAL-007-1 |  |  | 97 |  | 2,328 hrs.; $164,519.76.

Proposed Burden TOP-003-7 Docket No. RD25-5
Reliability standard | Type and number of entity ⁷ | Number of annual responses per entity | Total number of responses | Average number of burden hours per response ⁸ | Total burden hours
| (1) | (2) | (1) * (2) = (3) | (4) | (3) * (4) = (5)
Annual Collection TOP-003-7 FERC-725A
Annual review and record retention | 97 (BA) | 1 | 97 | 4 hrs.; $70.67/hr. | 388 hrs.; $27,419.96.
Total for TOP-003-7 |  |  | 97 |  | 388 hrs.; $27,419.96.

The annual responses and burden hours for proposed Reliability Standard BAL-007-1 is 97 responses; 2,328 hours. The annual responses and burden hours for proposed Reliability Standard TOP-003-7 is 97 responses; 388 hours.

The annual cost burden is $164,519.76 for proposed Reliability Standard BAL-007-1, and $27,419.96 for proposed Reliability Standard TOP-003-7.

Comments: Comments are invited on: (1) whether the collection of information is necessary for the proper performance of the functions of the Commission, including whether the information will have practical utility; (2) the accuracy of the agency's estimate of the burden and cost of the collection of information, including the validity of the methodology and assumptions used; (3) ways to enhance the quality, utility and clarity of the information collection; and (4) ways to minimize the burden of the collection of information on those who are to respond, including the use of automated collection techniques or other forms of information technology.

Dated: July 18, 2025.
Debbie-Anne A. Reese,
Secretary.

[FR Doc. 2025-13875 Filed 7-22-25; 8:45 am]

BILLING CODE 6717-01-P